COMMISSION ON CIVIL RIGHTS

Notice of Public Meeting of the Colorado Advisory Committee to the U.S. Commission on Civil Rights

AGENCY: Commission on Civil Rights.

ACTION: Notice of public meeting.

SUMMARY: Notice is hereby given, pursuant to the provisions of the rules and regulations of the U.S. Commission on Civil Rights (Commission) and the Federal Advisory Committee Act that the Colorado Advisory Committee (Committee) to the U.S. Commission on Civil Rights will convene a monthly virtual business meeting on Wednesday, March 19, 2025, at 3:00 p.m. Mountain Time. The purpose of the meeting is to review the final version of its report on public school attendance zones in Colorado. The committee will vote on the report and discuss next steps.

DATES: Wednesday, March 19, 2025, at 3 p.m. Mountain Time.

ADDRESSES: The meeting will be held via Zoom.

Meeting Link (Audio/Visual): https://tinyurl.com/279fjudv.

Join by Phone (Audio Only): 1-833 435 1820; Meeting ID: 160 614 2807#.

FOR FURTHER INFORMATION CONTACT: Ana Fortes, Designated Federal Official, at afortes@usccr.gov. or by phone at 202-681-0857.

SUPPLEMENTARY INFORMATION: Any interested member of the public may attend the meeting via the link above. Before adjourning the meeting, the committee chair will announce that any member of the public may make a brief oral statement, as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to each meeting.

Members of the public are entitled to submit written comments; the comments must be received in the regional office within 30 days following the scheduled meeting. Written comments may be emailed to Evelyn Bohor at ebohor@usccr.gov; please include Colorado Committee in the subject line of the transmitting email. Persons who desire additional information may contact the Regional Programs Coordination Unit at 1-312-353-8311.

Records generated from these meetings may be inspected and reproduced at the Regional Programs Coordination Unit Office, as they become available, both before and after each meeting. Records of the meetings will be available via the file sharing website: https://usccr.box.com/s/aq52obvbs8uhkx2a0198po94elwbf2vl. Persons interested in the work of this Committee are directed to the Commission's website, http://www.usccr.gov, or may contact the Regional Programs Coordination Unit at ebohor@usccr.gov.

Agenda

I. Welcome and Roll Call

II. Report Stage: Discuss and Vote on Report—Public School Attendance Zones

III. Discuss Next Steps

IV. Public Comment

V. Adjournment

Dated: March 5, 2025.
David Mussatt,
Supervisory Chief, Regional Programs Unit.

[FR Doc. 2025-03817 Filed 3-10-25; 8:45 am]

BILLING CODE P